DEPARTMENT OF THE INTERIOR

National Park Service

Notice of Assessment of Suitability and Non-Suitability for Further Study of Lands Within Cape Cod National Seashore for Consideration as Wilderness Areas

SUMMARY: Pursuant to Civil Action No. 03-04 (RMC), The Wilderness Society v. Gale Norton, January 10, 2005, and in accordance with National Park Service (NPS) Management Policies 2001 section 6.2.1, the NPS has completed a Wilderness Suitability Assessment to determine if lands within Cape Cod National Seashore meet criteria indicating suitability for designation as wilderness.

The Cape Cod National Seashore assessment found that the lands referenced within the park's General Management Plan as Natural Zones: (1) Are predominantly roadless and undeveloped; (2) are greater than 5,000 acres in size or of sufficient size as to make practicable their preservation and use in an unimpaired condition; and (3) meet the wilderness character criteria listed in section 2(c) of the Wilderness Act, and NPS Management Policies (2001).

The assessment also found that the remaining areas of Cape Cod National Seashore; (1) Are not predominantly roadless and undeveloped; (2) are not greater than 5,000 acres in size or of sufficient size as to make practicable their preservation and use in an unimpaired condition; and (3) do not meet the wilderness character criteria listed in the Wilderness Act and NPS Management Policies (2001).

Based on these findings, the NPS has concluded that the Natural Zones within Cape Cod National Seashore warrant further study for possible inclusion in wilderness.

ADDRESSES: A copy of the Wilderness Suitability Assessment can be obtained by writing to:

Superintendent, Cape Cod National Seashore, 99 Marconi Site Road, Wellfleet, MA 02667.

FOR FURTHER INFORMATION CONTACT: Requests for further information on this Determination should be directed to: Superintendent, Cape Cod National Seashore, 99 Marconi Site Road, Wellfleet, MA 02667.

SUPPLEMENTARY INFORMATION: The assessment standards outlined in NPS Management Policies (2001) to determine if a roadless, undeveloped area is suitable for preservation as wilderness are that it is over 5,000 acres in size or of sufficient size to make practicable its preservation and use in an unimpaired condition, and meets five wilderness character criteria: (1) The earth and its community of life are untrammeled by humans, where humans are visitors and do not remain; (2) the area is undeveloped and retains its primeval character and influence, without permanent improvements or human habitation; (3) the area generally appears to have been affected primarily by the forces of nature, with the imprint of humans' work substantially unnoticeable; (4) the area is protected and managed so as to preserve its natural conditions, and (5) the area offers outstanding opportunities for solitude or a primitive and unconfined type of recreation.

The requirement of the NPS to conduct the Wilderness Suitability Assessment for Cape Cod National Seashore was announced and discussed with the Cape Cod Advisory Committee members, the public, and local media representatives at meetings on June 20, September 26, and December 12, 2005.

Dated: January 6, 2006.
Steve P. Martin,
Deputy Director.

[FR Doc. 06-909 Filed 1-31-06; 8:45 am]

BILLING CODE 4312-GB-M